DEPARTMENT OF ENERGY

Federal Energy Regulatory Commission

[Docket No. RP02-43-000]

Egan Hub Partners, L.P.; Notice of Proposed Changes in FERC Gas Tariff

November 14, 2001.

Take notice that on November 8, 2001, Egan Hub Partners, L.P. (Egan Hub) tendered for filing as part of its FERC Gas Tariff, Original Volume No. 1, the tariff sheets listed on Appendix A attached to the filing, to be effective on December 1, 2001.

Egan Hub states that the purpose of this filing is to: (1) reflect the implementation of the LINKr System for Egan Hub effective on December 1, 2001, including related changes to Egan Hub's capacity release and nomination processes, and (2) request a limited waiver of the requirements for Electronic Data Interchange/Electronic Delivery Mechanism and Flat File/Electronic Delivery Mechanism related to the GISB Version 1.4 standards until such time as requested by a Part 284 customer.

Egan Hub states that copies of its filing have been mailed to all affected customers and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-28958 Filed 11-19-01; 8:45 am]

BILLING CODE 6717-01-P